FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012070-003.

Title: CSCL/ELJSA Vessel Sharing Agreement—Asia and Mexico, US East Coast Service.

Parties: China Shipping Container Lines Co., Ltd.; China Shipping Container Lines (Hong Kong) Co., Ltd.; Evergreen Lines Joint Service Agreement; and United Arab Shipping Company S.A.G.

Filing Party: Tara L. Leiter, Esq.; Blank Rome, LLP; Watergate; 600 New Hampshire Avenue, NW.; Washington, DC 20037.

Synopsis: The amendment revises the parties' vessel contributions and space allocations under the agreement.

Dated: August 26, 2011.
By Order of the Federal Maritime Commission.
Karen V. Gregory,
Secretary.

[FR Doc. 2011-22322 Filed 8-30-11; 8:45 am]

BILLING CODE 6730-01-P